NATIONAL CAPITAL PLANNING COMMISSION

Draft Environmental Impact Statement—South Mall Campus Master Plan

AGENCY: National Capital Planning Commission.

ACTION: Notice of availability; request for comment; notice of public meetings.

SUMMARY: The National Capital Planning Commission (NCPC or Commission) has released a Draft Environmental Impact Statement (DEIS) for the Smithsonian Institution's (SI) South Mall Campus Master Plan. The DEIS is available for comment as of the date of this notice.

DATES: Submit comments on or before by January 16, 2018. Two public meetings will be held to discuss the DEIS:

1. Monday, December 11, 2017, from 5:00 p.m. to 7:00 p.m.; and

2. Monday, December 18, 2017, from 10:00 a.m.-12:00 p.m.

ADDRESSES: The public meetings will be held at the National Capital Planning Commission, 401 9th Street NW., Suite 500, Washington, DC 20004.

A copy of the DEIS is available for review at NCPC, or at: https://www.ncpc.gov/ and http://www.southmallcampus.si.edu/

You may submit written comments on the DEIS by either of the methods listed below.

1. U.S. mail, courier, or hand delivery: Urban Design & Plan Review Division/National Capital Planning Commission, 401 9th Street NW., Suite 500, Washington, DC 20004.

2. Electronically: commentsonsouthcampus@si.edu

FOR FURTHER INFORMATION CONTACT: Matthew Flis, Senior Urban Designer at (202) 482-7236 or matthew.flis@ncpc.gov.

SUPPLEMENTARY INFORMATION:

Public Meetings

No prior registration is required to speak at the meetings. Reasonable accommodations are available upon request to the contact individual noted above.

Draft EIS

NCPC, acting as lead federal agency, along with SI, as the project owner, and in cooperation with the National Park Service, has prepared the DEIS to evaluate potential environmental impacts associated with implementing the South Mall Campus Master Plan. The DEIS has been prepared in compliance with the National Environmental Policy Act of 1969, as amended (NEPA). SI proposes to prepare a Master Plan for its South Mall Campus to guide future short-term and long-term renovation and development of the 12-acre campus by establishing holistic planning and design principles. The campus currently includes five principle buildings and four designed gardens, located on the southern side of the National Mall within the monumental core of downtown Washington, DC. The Master Plan would be implemented over a 20 to 30 year period. The purpose of the Master Plan is to guide future short-term and long-term renovation of the South Mall Campus. The Master Plan is needed to meet SI's long-term space requirements, and to address operational deficiencies across the campus that impact visitor use and experience, as well as SI's ability to implement its programs effectively and safely. The project goals are to preserve and protect the historic buildings and features of the campus, improve and expand visitor services and education, create clear accessible entrances and connections between the museums, gardens and surrounding context, and replace aging and inefficient building systems in order to better protect collections and decrease SI's carbon footprint. The DEIS evaluates three master plan action alternatives, along with a no-action alternative.

Authority: 42 U.S.C. 4371-4375; 1 CFR 602.23(c).

Dated: November 8, 2017.
Anne R. Schuyler,
General Counsel.

[FR Doc. 2017-24650 Filed 11-14-17; 8:45 am]

BILLING CODE 7520-01-P